DEPARTMENT OF HEALTH AND HUMAN SERVICES

Food and Drug Administration

[Docket No. FDA-2009-N-0664]

Pediatric Advisory Committee; Amendment of Notice; Correction

AGENCY: Food and Drug Administration, HHS

ACTION: Notice; correction.

The Food and Drug Administration (FDA) is correcting a notice that appeared in the Federal Register of November 2, 2009 (74 FR 56652). The document announced an amendment to the notice of meeting of the Pediatric Advisory Committee. This meeting was announced in the Federal Register of October 6, 2009 (74 FR 51289). The document was published with an inadvertent error. This document corrects that error.

FOR FURTHER INFORMATION CONTACT: Joyce A. Strong, Office of Policy (HF-27), Food and Drug Administration, 5600 Fishers Lane, Rockville, MD 20957, 301-827-7010.

SUPPLEMENTARY INFORMATION: In FR Doc. E9-26262, appearing on page 56652, in the Federal Register of Monday, November 2, 2009, the following correction is made:

1. On page 56652, in the first column, the heading “[Docket No. 2009-N-0664]” is corrected to read “[Docket No. FDA-2009-N-0664]”.

Dated: November 20, 2009.
David Horowitz,
Assistant Commissioner for Policy.

[FR Doc. E9-28448 Filed 11-27-09; 8:45 am]

BILLING CODE 4160-01-S